DEPARTMENT OF LABOR

Employment and Training Administration

[TA-W-37,328 and TA-W-37,328A]

Thaw Corporation, Snow Creek Division, Wenatchee, Washington, and Thaw Corporation, Cutting Department, Kent, Washington; Amended Certification Regarding Eligibility To Apply for Worker Adjustment Assistance

In accordance with Section 223 of the Trade Act of 1974 (19 U.S.C. 2273) the Department of Labor issued a Certification of Eligibility to Apply for Worker Adjustment Assistance on February 18, 2000, applicable to workers of Thaw Corporation, Snow Creek Division, Wenatchee, Washington. The notice was published in the Federal Register on March 31, 2000 (65 FR 17312).

At the request of the company, the Department reviewed the certification for workers of the subject firm. The workers are engaged in the production of fleece outerwear and thermal underwear. New information shows that workers separations occurred at the subject firms' Cutting Department, Kent, Washington in March, 2000. Workers perform cutting operations for all Thaw Corporation's production facilities, including Snow Creek Division, Wenatchee, Washington.

Based on these new findings, the Department is amending the certification to cover workers at the Cutting Department, Kent, Washington location.

The intent of the Department's certification is to include all workers of Thaw Corporation adversely affected by increased imports.

The amended notice applicable to TA-W-37,328 is hereby issued as follows:

All workers of Thaw Corporation, Snow Creek Division, Wenatchee, Washington (TA-W-37,328) and the Cutting Department, Kent, Washington (TA-W-37,328A) who became totally or partially separated from employment on or after January 28, 1999 through February 18, 2002 are eligible to apply for adjustment assistance under Section 223 of the Trade Act of 1974.

Signed at Washington, DC, this 12th day of April, 2000.
Grant D. Beale,
Program Manager, Division of Trade Adjustment Assistance.

[FR Doc. 00-9969 Filed 4-20-00; 8:45 am]

BILLING CODE 4510-30-M